DEPARTMENT OF THE INTERIOR

National Park Service

National Register of Historic Places; Notification of Pending Nominations

Nominations for the following properties being considered for listing in the National Register were received by the National Park Service before August 14, 2004. Pursuant to section 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by September 23, 2004.

Beth M. Boland,
Acting Keeper of the National Register of Historic Places.

Arkansas

Baxter County

Fort Smith to Jackson Road—Talbert's Ferry Segments, (Cherokee Trail of Tears MPS) Address Restricted, Cotter, 04001030

Chicot County

Davis, M.E., House, (Ethnic and Racial Minority Settlement of the Arkansas Delta MPS) 200 N. Knox St., Dermott, 04001034

Hempstead County

Dooley's Ferry Fortifications Historic District, Address Restricted, Spring Hill, 04001031

Independence County

Big Botton Slough Bridge, (Historic Bridges of Arkansas MPS) Cty Rd. 58 (Padgett Island Rd.), Magness, 04001042

Izard County

Missouri Pacific Railroad Depot, (Historic Railroad Depots of Arkansas MPS) Old AR 9, Sylamore, 04001036

Logan County

Short Mountain Creek Bridge, (Historic Bridges of Arkansas MPS) Cty. Rd. 64, Paris, 04001039

Lonoke County

First Presbyterian Church, 304 S. Center St., Lonoke, 04001037

Trimble—McCrary House, 516 Jefferson, Lonoke, 04001038

US 70, Union Valley Segment, (Arkansas Highway History and Architecture MPS) N and S of U.S. 70 from the S28/S29 boundary line R9W W to S26/S27 boundary line R10W, Union Valley, 04001040

Madison County

Cannon Creek Bridge, Madison Cty. Rd. 5340, Cannon Creek, 04001033

Miller County

Buhrman—Pharr Hardware Company Historic District, 610 and 620 E 3rd St., Texarkana, 04001045

Confederate Section—Old Rondo Cemetery, (Civil War Commemorative Sculpture MPS) 1612 Smith Rd., Rondo, 04001029

Perry County

South Fourche LaFave River Bridge, (Historic Bridges of Arkansas MPS) AR 7, Hollis, 04001044

Pima County

Pascua Cultural Plaza, 785 W. Sahuaro St., Tucson, 04001032

Randolph County

Looney—French House, 1325 Deer Run Trail, Dalton, 04001035

US 67, Old, Biggers to Datto, (Arkansas Highway History and Architecture MPS) Biggers-Reyno Rd., First St. and Clay Cty Rd. 111, Biggers, 04001046

Washington County

County Road 6 Bridge, (Historic Bridges of Arkansas MPS) Cty Rd. 6, Cincinnati, 04001043

US 71, Greenland Segment, Old, (Arkansas Highway History and Architecture MPS), Washington Cty. Rd. 1194 (S. Main Ave.), Greenland, 04001041

California

Monterey County

Monterey County Jail, 142 W. Alisal St., Salinas, 04001028

Maine

Hancock County

Moore-Mayo House, Lighthouse Rd., Bass Harbor, 04001050

Parker House, 185 South St., Blue Hill, 04001047

Rural Hall, Surry Rd., 1 mi. E of Contention Cove, Surry, 04001049

Sagadahoc County

Randall-Hildreth House, 806 Foreside Rd., Topsham, 04001048

York County

Leavitt, James, House, 6 Old Alfred Rd., Waterboro Center, 04001051

New York

Cayuga County

Mentz Church, Mentz Church Rd. at McDonald Rd., Montezuma, 04001064

Chenango County

Guildford Center Presbyterian Church, Cty Rd. 36, Guilford Center, 04001059

Fulton County

St. John's Episcopal Church, 1 North Market St., Johnstown, 04001054

Genesee County

Saint James' Episcopal Church, 405 E. Main St., Batavia, 04001062

Lewis County

Forest Presbyterian Church, 4109 Center St., Lyon Falls, 04001060

Saratoga County

Clifton Park Center Baptist Church and Cemetery, 713 Clifton Park Center Rd., Clifton Park Center, 04001055

Schenectady County

Vale Cemetery and Vale Park, 907 State St., Nott Terrace, Schenectady, 04001053

Schoharie County

Hilton, Peter A., House, 6605 NY 10, Beekman Corners, 04001063

Seneca County

United Methodist Church, 21 E. Williams St., Waterloo, 04001057

St. Lawrence County

Hepburn Library, 1 Hepburn St., Norfolk, 04001056

Steuben County

Hallock, George W., House, (Bath Village MRA) 16 W. William St., Bath, 04001052

Sullivan County

Town and Country Building, 1 N Main St., Liberty, 04001061

Yates County

First Presbyterian Church, 31 Main St., Dundee, 04001058

Oregon

Linn County

Archibald, Steven and Elizabeth, Farmstead, 31888 Wirth Rd., Tangent, 04001068

Wigle Cemetery, Belts Dr., Harrisburg, 04001067

Marion County

Gordon House, 879 W. Main St., Siverton, 04001066

Multnomah County

Mount Tabor Park, 6325 W.E. Division St., Portland, 04001065

A request for REMOVAL has been made for the following resources:

Arkansas

Benton County

Methodist Church (Benton County MRA), AR 112 and AR 264, Cave Spring, 87002373

Chicot County

Walker House (Thompson, Charles L., Design Collection TR), 606 Main St. Dermott, 82000799

Crawford County

Cedar Creek Bridge (Historic Bridges of Arkansas MPS), AR 000649 over Cedar Cr., Rudy vicinity, 95000649

Crawford County Road 32d Bridge

(Historic Bridges of Arkansas MPS), Co Rd. 32d over Cove Cr., Natural Dam vicinity, 95000650

Lee Creek Bridge (Historic Bridges of Arkansas MPS) AR 220, over Lee Creek Cove City vicinity, 90000504

Greene County

Big Slough Ditch Bridge (Historic Bridges of Arkansas MPS) Co. Rd. 855 Brighton vicinity, 00000629

Eight Mile Creek Bridge (Historic Bridges of Arkansas MPS) AR 135, over Eight Mile Creek Paragould vicinity, 90000524

Sebastian County

Jenny Lind Bridge (Historic Bridges of Arkansas MPS) Howard Hill School Rd. Jenny Lind, 90000530

Union County

SAU at El Dorado (Thompson, Charles L., Design Collection TR) Summit at Block Sts. El Dorado, 82000939

Washington County

Wyman Bridge (Historic Bridges of Arkansas MPS) Co. Rd. 38, over West Fork of the White River Fayetteville vicinity, 90000526

North Dakota

Barnes County

Rainbow Arch Bridge (Historic Roadway Bridges of North Dakota MPS) Main St., E., across the Sheyenne River Valley City, 97000170

Cass County

Smith, Chesebro, House (North Side Fargo MRA) 1337 Broadway Fargo, 86003744

Grand Forks BPOE Lodge, Golden Block (Downtown Grand Forks MRA) 12 N. 4th St. Grand Forks, 82001314

Clifford Annes (Downtown Grand Forks MRA) 407-411 DeMers Ave. Grand Forks, 82001319

Dinnie Block (Downtown Grand Forks MRA) 109 N. 3rd. Ave. Grand Forks, 82001321

Electric Construction Co. Building (Downtown Grand Forks MRA) 16 S. 4th St. Grand Forks, 82001322

Flatiron Building (Downtown Grand Forks MRA) 323 Kittson Ave. Grand Forks, 82001324

Red River Valley Brick Co. (Downtown Grand Forks MRA) 215 S. 3rd St. Grand Forks, 82001335

Traill County

Portland Park Bridge (Historic Roadway Bridges of North Dakota MPS) Across the S branch of the Goose River, unnamed Co. Rd. NE edge of Portland Portland vicinity, 97000191

Texas

Dallas County

Ownby, Jordan C., Stadium (Georgian Revival Buildings of Southern Methodist University TR) 5900 Ownby Dr. Dallas, 80004093

[FR Doc. 04-20354 Filed 9-7-04; 8:45 am]

BILLING CODE 4312-51-P